DEPARTMENT OF THE INTERIOR

National Park Service

[2253-665]

Notice of Inventory Completion: U.S. Department of the Interior, Bureau of Land Management, White River Field Office, Meeker, CO and Colorado State University, Laboratory of Public Archaeology, Fort Collins, CO

AGENCY: National Park Service, Interior.

ACTION: Notice.

Notice is here given in accordance with the Native American Graves Protection and Repatriation Act (NAGPRA), 25 U.S.C. 3003, of the completion of an inventory of human remains and associated funerary objects in the control of the U.S. Department of the Interior, Bureau of Land Management, White River Field Office, Meeker, CO, and in the possession of the Colorado State University, Laboratory of Public Archaeology, Fort Collins, CO. The human remains were removed from the Canyon Pintado National Historic District, Rio Blanco County, CO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by the Bureau of Land Management, White River Field Office, and Colorado State University professional staff, in consultation with representatives of the Hopi Tribe of Arizona; Jicarilla Apache Nation, New Mexico; Kiowa Indian Tribe of Oklahoma; Navajo Nation, Arizona, New Mexico & Utah; Ohkay Owingeh, New Mexico; Paiute Indian Tribe of Utah; Pueblo of Pojoaque, New Mexico; Pueblo of Santa Clara, New Mexico; Pueblo of Santa Ana, New Mexico; Pueblo of San Ildefonso, New Mexico; Shoshone-Bannock Tribes of the Fort Hall Reservation of Idaho; Shoshone Tribe of the Wind River Reservation, Wyoming; Southern Ute Indian Tribe of the Southern Ute Reservation, Colorado; Standing Rock Sioux Tribe of North & South Dakota; Ute Indian Tribe of the Uintah & Ouray Reservation, Utah; and Ute Mountain Tribe of the Ute Mountain Reservation, Colorado, New Mexico & Utah (hereinafter referred to as “The Tribes”).

In 1977, human remains representing a minimum number of one individual were removed from site 5RB699, in Rio Blanco County, CO, on public lands administered by the Bureau of Land Management, White River Field Office. The remains are represented by a single human tooth that was recovered from an excavation trench during excavations conducted by the Colorado State University, Laboratory of Public Archaeology. No known individual was identified. No associated funerary objects are present.

In 1977, human remains representing a minimum number of one individual were removed from site 5RB761, in Rio Blanco County, CO, on public lands administered by the Bureau of Land Management, White River Field Office. The remains are represented by a partial skeleton and associated hide and cordage that were recovered from a rock crevice burial during excavations conducted by the Colorado State University, Laboratory of Public Archaeology. No known individual was identified. The two associated funerary objects are a hide and cordage.

In 2009, Colorado State University, Laboratory of Public Archaeology, located the two sets of remains in their holdings and informed the Bureau of Land Management. Subsequently, the Bureau of Land Management moved the human remains and associated funerary objects from the Colorado State University, Laboratory of Public Archaeology facility to more secure storage at the Bureau of Land Management's Federal collections depository at the Museum of Western Colorado pending repatriation.

The Bureau of Land Management has determined that the preponderance of evidence shows that the human remains are Native American and have Ute cultural affiliation. Visual inspection by Colorado State University, Laboratory of Public Archaeology, of the skeletal morphology of the burial individual from site 5RB761 demonstrated tooth wear likely associated with Native Americans. Rock crevice burials are strongly associated with Native American practices, in particular with Ute tribes. Also, the burial was located directly underneath a rock art panel that is consistent with the Early Ute Historic Style of rock art found in the region. Site 5RB699 dated Fremont and Ute occupations. Finally, both site 5RB761 and site 5RB699 are located within lands that were traditionally occupied by the Ute band that is now represented by the Ute Indian Tribe of the Uintah & Ouray Reservation, Utah.

Officials of the Bureau of Land Management, White River Field Office, and Colorado State University, Laboratory of Public Archaeology, have determined, pursuant to 25 U.S.C. 3001(9), that the human remains described above represent the physical remains of two individuals of Native American ancestry. Officials of the Bureau of Land Management, White River Field Office, and the Colorado State University, Laboratory of Public Archaeology, have also determined, pursuant to 25 U.S.C. 3001(3)(A), that the two objects described above are reasonably believed to have been placed with or near individual human remains at the time of death. Lastly, officials of the Bureau of Land Management, White River Field Office, and Colorado State University, Laboratory of Public Archaeology, have determined pursuant to 25 U.S.C. 3001(2), that there is a relationship of shared group identity that can be reasonably traced between the Native American human remains and associated funerary objects and the Ute Indian Tribe of the Uintah & Ouray Reservation, Utah.

Representatives of any other Indian tribe that believes itself to be culturally affiliated with the human remains and associated funerary objects should contact Dan Haas, State Archaeologist, Bureau of Land Management, Colorado State Office, 2850 Youngfield St., Lakewood, CO 80215-7076, telephone (303) 239-3647 before April 14, 2011. Repatriation of the human remains and associated funerary objects to the Ute Indian Tribe of the Uintah & Ouray Reservation, Utah, may proceed after that date if no additional claimants come forward.

The Bureau of Land Management is responsible for notifying The Tribes that this notice has been published.

Dated: March 9, 2011.
Sherry Hutt,
Manager, National NAGPRA Program.

[FR Doc. 2011-5874 Filed 3-14-11; 8:45 am]

BILLING CODE 4312-50-P